DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Standards Subcommittee Meeting.

Date and Times: Wednesday, May 3, 2017: 9:00 a.m.-5:30 p.m. (EDT).

Place: U.S. Department of Health and Human Services, Hubert H. Humphrey Building, 200 Independence Avenue, SW., Room 800, Washington, DC 20201, (202) 690-7100.

Status: Open. There will be an open comment period during the final 15 minutes of the Subcommittee meeting.

Purpose:

Health Insurance Portability and Accountability Act (HIPAA) legislation from 1996, as amended, directed the Secretary of HHS to publish regulations implementing a unique health plan identifier (HPID) for health plans (covered entities under the law). In September 2012, HHS published a final rule requiring health plans to obtain a health plan identifier by November 2014. The regulation also permitted other entities to obtain an identifier on a voluntary basis. Any entity that obtained an identifier was to begin using it in HIPAA transactions by November 2015. Small health plans would begin using the identifier by November 2016.

In February and June of 2014, NCVHS held meetings on the HPID final rule. Following both hearings, NCVHS sent letters to the HHS Secretary stating that the industry was confused about the HPID policy, terminology and the affected entities, and that reporting the HPID in health care transactions provided little benefit or value to the health care system. In October 2014, HHS announced an enforcement discretion period for the HPID rule, halting its implementation.

The purpose of this NCVHS Standards Subcommittee meeting is to seek further input from the health care industry for disposition and next steps of the HPID.

The times and topics are subject to change. Please refer to the posted agenda for any updates.

Contact Persons for More Information: Substantive program information may be obtained from Rebecca Hines, MHS, Executive Secretary, NCVHS, National Center for Health Statistics, Centers for Disease Control and Prevention, 3311 Toledo Road, Hyattsville, Maryland 20782, telephone (301) 458-4715. Information pertaining to meeting content may be obtained from Lorraine Doo, MSW, MPH, or Geanelle G. Herring, MSW, Centers for Medicare & Medicaid Services, Office of Information Technology, Division of National Standards, 7500 Security Boulevard, Baltimore, Maryland 21244, telephone (410) 786-4160. Summaries of meetings and a roster of Committee members are available on the home page of the NCVHS Web site: http://www.ncvhs.hhs.gov/, where further information including an agenda and instructions to access the audio broadcast of the meetings will also be posted.

Should you require reasonable accommodation, please contact the CDC Office of Equal Employment Opportunity on (770) 488-3210 as soon as possible.

Date: April 4, 2017.
Laina Bush,
Deputy Assistant Secretary for Planning and Evaluation, Office of the Assistant Secretary for Planning and Evaluation.

[FR Doc. 2017-07194 Filed 4-10-17; 8:45 am]

BILLING CODE 4151-05-P